NUCLEAR REGULATORY COMMISSION

10 CFR Part 72

RIN 3150-AI51

[NRC-2008-0568]

List of Approved Spent Fuel Storage Casks: MAGNASTOR Addition, Confirmation of Effective Date

AGENCY: Nuclear Regulatory Commission.

ACTION: Direct final rule: Confirmation of effective date.

SUMMARY: The Nuclear Regulatory Commission (NRC) is confirming the effective date of February 4, 2009, for the direct final rule that was published in the Federal Register on November 21, 2008. This direct final rule amended the NRC's regulations to add the NAC International Inc. MAGNASTOR cask system to the list of approved spent fuel storage casks in 10 CFR 72.214.

DATES: Effective Date: The effective date of February 4, 2009, is confirmed for direct final rule published in the Federal Register on November 21, 2008 (73 FR 70587).

ADDRESSES: Documents related to this rulemaking, including any comments received, may be examined at the NRC Public Document Room, Room O-1F23, 11555 Rockville Pike, Rockville, MD 20852.

FOR FURTHER INFORMATION CONTACT: Jayne M. McCausland, Office of Federal and State Materials and Environmental Management Programs, U.S. Nuclear Regulatory Commission, Washington, DC 20555, telephone (301) 415-6219, e-mail Jayne.McCausland@nrc.gov.

SUPPLEMENTARY INFORMATION: On November 21, 2008 (73 FR 70587), the NRC published a direct final rule amending its regulations at 10 CFR 72.214 to add the MAGNASTOR cask system to the “List of Approved Spent Fuel Storage Casks” as Certificate of Compliance Number 1031. In the direct final rule, NRC stated that if no significant adverse comments were received, the direct final rule would become final on February 4, 2009. The NRC did not receive any comments on the direct final rule. Therefore, this rule will become effective as scheduled.

Dated at Rockville, Maryland, this 27th day of January 2009.
For the Nuclear Regulatory Commission.
Michael T. Lesar,
Chief, Rulemaking, Directives and Editing Branch, Division of Administrative Services, Office of Administration.

[FR Doc. E9-2370 Filed 2-3-09; 8:45 am]

BILLING CODE 7590-01-P